DEPARTMENT OF TRANSPORTATION

Federal Aviation Administration

Proposed Advisory Circular 25.981-2A, Fuel Tank Flammability

AGENCY: Federal Aviation Administration (FAA), DOT.

ACTION: Notice of Availability of Proposed Advisory Circular (AC) 25.981-2A, Fuel Tank Flammability and request for comments; extension of comment period.

SUMMARY: This action extends the comment period for a notice of availability of proposed AC 25.981-2A, Fuel Tank Flammability, and request for comments published on November 28, 2005. In this Notice, the FAA announced the availability of and requested comments on a proposed AC which sets forth an acceptable means, but not the only means, of demonstrating compliance with the provisions of the airworthiness standards in a Notice of Proposed Rulemaking published on November 23, 2005. The comment period for this Notice closes on the same day as the comment period for the NPRM (March 23, 2006). The extension of the Notice's comment period is a result of an extension of the NPRM's comment period.

DATES: Send your comments on or before May 8, 2006.

ADDRESSES: Send your comments on the proposed AC to the individual named under the FOR FURTHER INFORMATION CONTACT section of this extension. Comments may be inspected at that address between 7:30 a.m. and 4 p.m., except Federal Holidays.

FOR FURTHER INFORMATION CONTACT: Michael E. Dostert, FAA Propulsion/Mechanical Systems Branch, ANM-112, Transport Airplane Directorate, Aircraft Certification Service, 1601 Lind Avenue, SW., Renton, Washington 98055-4056; telephone (425) 227-2132, facsimile (425-227-1320); e-mail: mike.dostert@faa.gov.

SUPPLEMENTARY INFORMATION:

Comments Invited

The FAA continues to invite interested persons to comment on the proposed AC by sending written comments, data, or views about it. Commenters should identify AC 25.981-2A and submit comments, in duplicate, to the address specified above. The Transport Standards Staff will consider all communications received on or before the closing date for comments before issuing the final AC. The proposed AC can be found and downloaded from the Internet at http://www.airweb.faa.gov/rgl under “Draft Advisory Circulars.” A paper copy of the proposed AC may be obtained by contacting the person named above under the caption FOR FURTHER INFORMATION CONTACT.

Background

On November 18, 2005, we issued a Notice of availability of proposed AC 25.981-2A, Fuel Tank Flammability, and request for comments (70 FR 71365; November 28, 2005). This Notice announced the availability of and requested comments on a proposed AC which sets forth an acceptable means, but not the only means, of demonstrating compliance with the provisions of the airworthiness standards in that Notice of Proposed Rulemaking (NPRM) entitled “Reduction of Fuel Tank Flammability in Transport Category Airplanes” (70 FR 70922, November 23, 2005). The comment periods for the NPRM and the proposed AC both end on March 23, 2006. The FAA received requests from a number of entities to extend the comment period on the NPRM to allow public comment on new information that has recently been placed in the public docket. Based on these requests and our belief that additional requests for extensions will be filed shortly, we determined it would be appropriate to extend the comment period on the NPRM by 45 days. Since the proposed AC is associated with the NPRM, we want their comment period closing dates to be the same. Therefore, we need to extend the comment period for the proposed AC by 45 days to be consistent. Absent unusual circumstances, we do not anticipate any further extension of the comment period for the proposed AC.

The extension of the comment period for the NPRM is being published concurrently with this extension.

Extension of Comment Period

The FAA finds that an extension of the comment period for the Notice of availability of proposed AC 25.981-2A, Fuel Tank Flammability, and request for comments is consistent with the public interest, and that good cause exists for taking this action.

Accordingly, the comment period for the Notice of availability of proposed AC 25.981-2A, Fuel Tank Flammability, and request for comments is extended until May 8, 2006.

Issued in Washington, DC on March 14, 2006.
John J. Hickey,
Director, Aircraft Certification Service.

[FR Doc. E6-4023 Filed 3-20-06; 8:45 am]

BILLING CODE 4910-13-P